DEPARTMENT OF ENERGY

Federal Energy Regulatory Commission

[Project Nos. 6904-043, 6903-037]

Battenkill Hydro Associates; Notice of Application Tendered for Filing With the Commission and Soliciting Additional Study Requests and Establishing Procedural Schedule for Relicensing and a Deadline for Submission of Final Amendments

Take notice that the following hydroelectric applications have been filed with the Commission and are available for public inspection.

a. Type of Applications: Subsequent Minor License.

b. Project Nos.: 6904-043, 6903-037.

c. Date filed: January 31, 2024.

d. Applicant: Battenkill Hydro Associates (Battenkill Hydro).

e. Name of Projects: Upper and Middle Greenwich Hydroelectric Projects (Upper Greenwich Project and Middle Greenwich Project).

f. Location: On the Batten Kill in the Village of Greenwich in Washington County, New York.

g. Filed Pursuant to: Federal Power Act 16 U.S.C. 791(a)-825(r).

h. Applicant Contact: Sherri Loon, Coordinator—Operations USA, Kruger Energy, LP, 423 Brunswick Ave., Gardiner, ME 04345; (207) 203-3026; sherri.loon@kruger.com or Lewis Loon, General Manager—Operations and Maintenance USA, Kruger Energy, LP, 423 Brunswick Ave., Gardiner, ME 04345; (207) 203-3027; lewis.loon@kruger.com.

i. FERC Contact: Chris Millard at (202) 502-8256, or christopher.millard@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the applications on their merit, the resource agency, Indian Tribe, or person must file a request for a study with the Commission not later than 60 days from the date of filing of the applications, and serve a copy of the request on the applicant.

l. Deadline for filing additional study requests and requests for cooperating agency status: April 1, 2024.¹

¹ The Commission's Rules of Practice and Procedure provide that if a filing deadline falls on a Saturday, Sunday, holiday, or other day when the Commission is closed for business, the filing deadline does not end until the close of business on the next business day. 18 CFR 385.2007(a)(2). Because the 60-day filing deadline falls on a Sunday (i.e., March 31, 2024), the filing deadline is extended until the close of business on Monday, April 1, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Upper Greenwich Hydroelectric Project (P-6904-043) or Middle Greenwich Hydroelectric Project (P-6903-037).

m. The applications are not ready for environmental analysis at this time.

n. Project Descriptions: The Upper Greenwich Project consists of the following existing facilities: (1) an 11.5-foot-high, 203-foot-long concrete gravity spillway dam topped with 2-foot-high flashboards; (2) a reservoir with a normal water surface area of 20 acres and a gross storage capacity of 70 acre-feet at a normal water surface elevation of 334 feet mean sea level (MSL); (3) two 12-foot by 7.5-foot intake gates; (4) a 200-foot-long, 40-foot-wide, and 10-foot-high earthen power canal; (5) 60-foot-wide, 11-foot-high, 1-inch clear trash racks angled at 45 degrees to the flow and toward a 3-foot-wide fish passage sluice; (6) a 53-foot-long, 14-foot-wide, concrete and steel powerhouse containing two turbine-generator units with a rated capacity of 300 kilowatts (kW) each for a total installed capacity of 600 kW; (7) a tailrace channel; (8) a 150-foot-long transmission line; and (9) appurtenant facilities.

The Middle Greenwich Project consists of the following existing facilities: (1) a 10-foot-high, 235-foot-long concrete gravity spillway dam; (2) a 9-acre reservoir with a gross storage capacity of 80 acre-feet at a normal water surface elevation of 318 feet MSL; (3) a 150-foot-long, 20-foot-wide, and 10-foot-high power canal; (4) 24-foot-wide, 11-foot-high, 1-inch clear trash racks angled at 45 degrees to the flow and toward a 2.5-foot-wide fish passage sluice; (5) a 15-foot-long by 19.5-foot-wide concrete and steel powerhouse containing one turbine-generator unit with a capacity of 300 kW; (6) a tailrace channel; (7) a 150-foot-long transmission line; and (8) appurtenant facilities.

The Upper and Middle Greenwich projects are operated in a run-of-river mode and release a minimum flow to the bypassed reach of 80 cubic feet per second (cfs) and 20 cfs, respectively, or inflow, whichever is less.² A 20-cfs attraction flow is conveyed through the fish passage sluice to the bypassed reach at each project. Battenkill Hydro is not proposing any new project facilities or changes to the operation of either project.

² Project operation occurred intermittently from 2009 to 2013. Both projects are currently offline and have not operated since June 2013 (see Battenkill Hydro's letter filed November 7, 2022).

From 1999 to 2009, average annual generation at the Upper and Middle Greenwich projects was 146 kilowatt-hours (kWh) and 78 kWh, respectively.

o. A copy of the applications can be viewed on the Commission's website at http://www.ferc.gov, using the “eLibrary” link. Enter the docket number, excluding the last three digits in the docket number field, to access the document (P-6904 or P-6903). For assistance, contact FERC at FERCOnlineSupport@ferc.gov, or call toll-free, (866) 208-3676 or (202) 502-8659 (TTY).

You may also register online at http://www.ferc.gov/docs-filing/esubscription.asp to be notified via email of new filings and issuances related to these or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The applications will be processed according to the following preliminary schedule. Revisions to the schedule will be made as appropriate.

Milestone | Target date
Issue Deficiency Letter (if necessary) | April 2024.
Request Additional Information | April 2024.
Issue Acceptance Letter | July 2024.
Issue Scoping Document 1 for comments | August 2024.
Issue Scoping Document 2 (if necessary) | November 2024.
Issue Notice of Ready for Environmental Analysis | November 2024.

Final amendments to the applications must be filed with the Commission no later than 30 days from the issuance date of the notice ready for environmental analysis.

Dated: February 13, 2024.
Debbie-Anne A. Reese,
Acting Secretary.

[FR Doc. 2024-03425 Filed 2-20-24; 8:45 am]

BILLING CODE 6717-01-P